INTERNATIONAL TRADE COMMISSION

[USITC SE-04-016]

Sunshine Act Meeting

AGENCY: International Trade Commission.

Time and Date: June 22, 2004 at 11 a.m.

Place: Room 101, 500 E Street SW., Washington, DC 20436, Telephone: (202) 205-2000.

Status: Open to the public.

ACTION: Removal of Agenda Item.

In accordance with 19 CFR 201.35 (d)(2) the Commission has unanimously determined to remove the following agenda item from the meeting of June 22, 2004: 4. Inv. No. 731-TA-44 (Second Review)(Sorbitol from France)—briefing and vote.

Earlier announcement of this removal of agenda item was not possible.

By order of the Commission.
Issued: June 17, 2004.
Marilyn R. Abbott,
Secretary to the Commission.

[FR Doc. 04-14158 Filed 6-18-04; 9:47 am]

BILLING CODE 7020-02-P